DEPARTMENT OF ENERGY

Federal Energy Regulatory Commission

[Docket No. RP06-629-000]

Maritimes & Northeast Pipeline, L.L.C.; Notice of Proposed Changes in FERC Gas Tariff

October 4, 2006.

Take notice that on September 29, 2006, Maritimes & Northeast Pipeline, L.L.C. (Maritimes) tendered for filing as part of its FERC Gas Tariff, First Revised Volume No. 1, Tenth Revised Sheet No. 11, to become effective on November 1, 2006.

Maritimes states that it is making this Fuel Retainage Quantity (FRQ) filing pursuant to section 20 of the General Terms and Conditions (GT&C) of its FERC Gas Tariff. For deliveries north of the Richmond, ME Compressor Station Maritimes is proposing a decrease of 0.02% to the Fuel Retainage Percentage (“FRP”) for the Winter Period and a decrease of 0.01% for the Non-Winter Period. The projected FRP for deliveries north of the Richmond, ME Compressor Station for the Winter Period is 1.00% and for the Non-Winter Period the FRP is 0.88%. For deliveries south of the Richmond, ME Compressor Station Maritimes is proposing a decrease of 0.06% to the Fuel Retainage Percentage (FRP) for the Winter Period and a decrease of 0.04% for the Non-Winter Period. The projected FRP for deliveries south of the Richmond, ME Compressor Station for the Winter Period is 1.04% and for the Non-Winter Period the FRP is 0.91%.

Maritimes also states that it is submitting the calculation of the FRQ Deferred Account amount, pursuant to Section 20 of the GT&C, which provides that Maritimes will calculate surcharges or refunds designed to amortize the net monetary value of the balance in the FRQ Deferred Account at the end of the previous accumulation period.

Maritimes states that for the period August 1, 2005 through July 31, 2006, the FRQ Deferred Account resulted in a net credit balance of $1,641,748.73, inclusive of carrying charges, that will be refunded to Maritimes' customers.

Maritimes states that copies of this filing were mailed to all affected customers of Maritimes and interested state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-16800 Filed 10-10-06; 8:45 am]

BILLING CODE 6717-01-P